NUCLEAR REGULATORY COMMISSION

[Docket Nos. 50-282 and 50-306; NRC-2014-0028]

Northern States Power Company—Minnesota; Prairie Island Nuclear Generating Plant, Units 1 and 2

AGENCY: Nuclear Regulatory Commission.

ACTION: License amendment application; withdrawal by applicant.

SUMMARY: The U.S. Nuclear Regulatory Commission (NRC) has granted the request of Northern States Power Company—Minnesota, doing business as Xcel Energy, to withdraw its application dated December 20, 2013, as supplemented by letters dated October 15, 2014, and May 28, 2015, for a proposed amendment to Renewed Facility Operating Licenses DPR-42 and DPR-60. The proposed amendment would have revised the Prairie Island Nuclear Generating Plant, Units 1 and 2, Emergency Plan to increase staff augmentation times for certain emergency response organization positions.

ADDRESSES: Please refer to Docket ID NRC-2014-0028 when contacting the NRC about the availability of information regarding this document. You may obtain publicly-available information related to this document using any of the following methods:

• Federal Rulemaking Web site: Go to http://www.regulations.gov and search for Docket ID NRC-2014-0028. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Terry A. Beltz, Office of Nuclear Reactor Regulation, U.S. Nuclear Regulatory Commission, Washington DC 20555-0001; telephone: 301-415-3049, email: Terry.Beltz@nrc.gov.

SUPPLEMENTARY INFORMATION:

The NRC has granted the request of Northern States Power Company—Minnesota (the licensee) to withdraw its application dated December 20, 2013 (ADAMS Accession No. ML13358A405), as supplemented by two letters dated October 15, 2014, and May 28, 2015 (ADAMS Accession Nos. ML14288A543 and ML15148A775, respectively) for a proposed amendment to Renewed Facility Operating Licenses DPR-42 and DPR-60 for the Prairie Island Nuclear Generating Plant, Units 1 and 2, located in Goodhue County, Minnesota.

The proposed amendment sought to revise the Emergency Plan for the Prairie Island Nuclear Generating Plant, Units 1 and 2, to increase the staff augmentation times for certain emergency response organization positions.

The NRC published a Biweekly Notice in the Federal Register on February 19, 2014 (79 FR 9497), that gave notice that this proposed amendment was under consideration by the NRC. The licensee submitted its request to withdraw the proposed amendment on August 28, 2015 (ADAMS Accession No. ML15240A089).

Dated at Rockville, Maryland, this 17th day of September, 2015.
For the Nuclear Regulatory Commission.
Terry A. Beltz,
Senior Project Manager, Plant Licensing Branch III-1, Division of Operating Reactor Licensing, Office of Nuclear Reactor Regulation.

[FR Doc. 2015-24311 Filed 9-24-15; 8:45 am]

BILLING CODE 7590-01-P